DEPARTMENT OF HOMELAND SECURITY

U.S. Citizenship and Immigration Services

[CIS No. 2497-99; DHS Docket No. USCIS 2010-0010]

RIN 1615-ZA99

Extension of the Designation of Somalia for Temporary Protected Status

AGENCY: U.S. Citizenship and Immigration Services, Department of Homeland Security (DHS).

ACTION: Notice.

SUMMARY: This Notice announces that the Secretary of Homeland Security (Secretary) has extended the designation of Somalia for temporary protected status (TPS) for 18 months, from its current expiration date of March 17, 2011 through September 17, 2012. The Secretary has determined that an 18-month extension is warranted because conditions in Somalia prompting the TPS designation continue to be met. Armed conflict in Somalia is ongoing and, due to such conflict and other extraordinary and temporary conditions, requiring the return of eligible individuals with TPS to Somalia would pose a serious threat to their personal safety.

This Notice also sets forth procedures necessary for nationals of Somalia (or aliens having no nationality who last habitually resided in Somalia) with TPS to re-register and to apply for an extension of their employment authorization documents (EADs) with U.S. Citizenship and Immigration Services (USCIS). Re-registration is limited to persons who previously registered for TPS under the designation of Somalia and whose applications have been granted or remain pending. Certain nationals of Somalia (or aliens having no nationality who last habitually resided in Somalia) who have not previously applied for TPS may be eligible to apply under the late initial registration provisions. Information on late initial registration can be found on the USCIS Web site at http://www.uscis.gov on the “Temporary Protected Status” homepage.

USCIS will issue new EADs with a September 17, 2012 expiration date to eligible TPS beneficiaries who timely re-register and apply for EADs.

DATES: The extension of the TPS designation of Somalia is effective March 18, 2011, and will remain in effect through September 17, 2012. The 60-day re-registration period begins November 2, 2010 and will remain in effect until January 3, 2011.

FOR FURTHER INFORMATION CONTACT: • For further information on TPS, including guidance on the application process and additional information on eligibility, please visit the USCIS Web site at http://www.uscis.gov. Select “Temporary Protected Status” from the homepage under “Humanitarian Relief.” You can find detailed information about this TPS extension on our Web site at the Somali Questions & Answers Section.

• You can also contact the TPS Operations Program Manager, Status and Family Branch, Service Center Operations Directorate, U.S. Citizenship and Immigration Services, Department of Homeland Security, 20 Massachusetts Avenue, NW., Washington, DC 20529-2060, telephone (202) 272-1533. This is not a toll-free call.

Note: The phone number provided here is solely for questions regarding this TPS notice. It is not for individual case status inquiries. Applicants seeking information about the status of their individual cases can check Case Status Online available at the USCIS Web site at http://www.uscis.gov, or call the USCIS National Customer Service Center at 1-800-375-5283 (TTY 1-800-767-1833).

• Further information will also be available at local USCIS offices upon publication of this Notice.

SUPPLEMENTARY INFORMATION:

Abbreviations and Terms Used in This Document

Act—Immigration and Nationality Act

AI—Amnesty International

DHS—Department of Homeland Security

DOS—Department of State

EAD—Employment Authorization Document

OSC—U.S. Department of Justice, Office of Special Counsel for Immigration Related Unfair Employment Practices

Secretary—Secretary of Homeland Security

TFG—Transitional Federal Government

TPS—Temporary Protected Status

UN—United Nations

UNHCR—United Nations High Commissioner for Refugees

USCIS—U.S. Citizenship and Immigration Services

What Is Temporary Protected Status?

• TPS is an immigration status granted to eligible nationals of a country designated for TPS under the Act (or to persons with no nationality who last habitually resided in the designated country).

• During the TPS designation period, TPS beneficiaries are eligible to remain in the United States and may obtain work authorization, so long as they continue to meet the requirements of their TPS status.

• The granting of TPS does not lead to permanent resident status.

• When the Secretary terminates a country's TPS designation, beneficiaries return to the same immigration status they maintained before TPS (unless that status has since expired or been terminated) unless they lawfully obtained another immigration status while registered for TPS.

What authority does the Secretary of Homeland Security have to extend the designation of Somalia for TPS?

Section 244(b)(1) of the Immigration and Nationality Act (Act), 8 U.S.C. 1254a(b)(1), authorizes the Secretary, after consultation with appropriate agencies of the government, to designate a foreign State (or part thereof) for TPS.¹ The Secretary may then grant TPS to eligible nationals of that foreign State (or aliens having no nationality who last habitually resided in that State). Section 244(a)(1)(A) of the Act, 8 U.S.C. 1254a(a)(1)(A).

¹ As of March 1, 2003, in accordance with section 1517 of title XV of the Homeland Security Act of 2002 (HSA), Public Law 107-296, 116 Stat. 2135, any reference to the Attorney General in a provision of the Immigration and Nationality Act describing functions transferred under the HSA from the Department of Justice to the Department of Homeland Security “shall be deemed to refer to the Secretary” of Homeland Security. See 6 U.S.C. 557 (codifying HSA, tit. XV, sec. 1517).

At least 60 days before the expiration of a TPS designation, the Secretary, after consultation with appropriate agencies of the government, must review the conditions in a foreign State designated for TPS to determine whether the conditions for the TPS designation continue to be met and, if so, must determine the length of an extension of the TPS designation. Section 244(b)(3)(A) and (C) of the Act, 8 U.S.C. 1254a(b)(3)(A) and (C). If the Secretary determines that the foreign State no longer meets the conditions for the TPS designation, the Secretary must terminate the designation. Section 244(b)(3)(B) of the Act, 8 U.S.C. 1254a(b)(3)(B).

When was Somalia designated for TPS?

On September 16, 1991, the Attorney General designated Somalia for TPS based on the ongoing armed conflict and extraordinary and temporary conditions within the country. 56 FR 46804. See section 244(a)(b)(1)(A) and (C) of the Act, 8 U.S.C. 1254a(b)(1)(A) and (C). On September 4, 2001, the Attorney General redesignated Somalia for TPS. 66 FR 46288. The last extension of TPS for Somalia was announced on July 27, 2009, based on the Secretary's determination that the conditions warranting the designation and redesignation continued to be met. 74 FR 37043. This announcement is the eighth extension of TPS for Somalia since the redesignation in 2001.

Why is the Secretary extending the TPS designation for Somalia through September 17, 2012?

Over the past year, DHS and the Department of State (DOS) have continued to review conditions in Somalia. Based on this review, and after consulting with DOS, the Secretary has determined that an 18-month extension is warranted because the conditions prompting designation and redesignation continue to be met. Armed conflict in Somalia is ongoing and, due to such conflict and other extraordinary and temporary conditions requiring the return of eligible individuals with TPS to Somalia would pose a serious threat to their personal safety.

Somalia remains in a state of chaos characterized by the lack of a central government, a crippled economy, the absence of civil structures, destruction of infrastructure, and generalized insecurity in the form of banditry, kidnapping, looting, revenge killings, targeted assassinations, suicide car-bombings, and inter-clan fighting. A total of 7,574 civilians were killed in 2008. An additional 1,739 civilians were killed in 2009. In January 2010 alone, 258 civilians were killed in the escalating conflict. An April 2010 United Nations (UN) report states that trafficking of women and children is widespread. An April 2010 report by Human Rights Watch indicates that men and boys were forcibly recruited into militia forces, and were killed if they refused. An Amnesty International (AI) report covering the period between September 2009 and March 2010 stated that civilians were deliberately targeted for attacks and that opposition groups which continued to control south and central Somalia increasingly subjected civilians living in those areas to serious human rights violations, including abduction, torture, and unlawful killings.

In January 2009, Sheikh Sharif Sheikh Ahmed was appointed as president of the Transitional Federal Government (TFG). De-escalation of violence in Mogadishu and other parts of southern and central Somalia followed and some 60,000 people returned. However, a new offensive in May 2009 against the TFG and resumed fighting resulted in death or injury to thousands of civilians and forced some 255,000 people to flee the city.

As of March 25, 2010, the United Nations High Commissioner for Refugees (UNHCR) estimated the number of people internally displaced within Somalia at 1.4 million. The number of Somalis who sought refuge in neighboring countries in 2008 was 106,909. In 2009, the number rose to 121,177. In the first quarter of 2010, the number of individuals who sought refuge in neighboring countries was 21,730. According to UNHCR figures, the total number of Somali refugees in neighboring countries is 568,640.

In January 2008, the number of Somalis in need of humanitarian assistance was 1.8 million. As of February 2010, the UN Food Security and Nutrition Analysis Unit reported the number at 3.2 million, or 42% of the population. However, humanitarian efforts have been hindered by increasing targeted attacks on humanitarian workers countrywide. Several international assistance organizations have had to suspend most humanitarian feeding operations. According to the March 25, 2010 AI report, “The delivery of emergency humanitarian aid in Somalia is shrinking.” The threat of piracy, insecurity, restrictions on movement and operations of aid agencies, and corruption hampered the delivery of humanitarian aid to populations in need.

Based on this review and after consultation with the appropriate Government agencies, the Secretary has determined that:

• The conditions that prompted the September 4, 2001 redesignation of Somalia for TPS continue to be met. See section 244(b)(3)(A) and (C) of the Act, 8 U.S.C. 1254a(b)(3)(A) and (C).

• Requiring the return of nationals to Somalia continues to pose a serious threat to their personal safety due to an ongoing armed conflict. See section 244(b)(1)(A) of the Act, 8 U.S.C. 1254a(b)(1)(A).

• Nationals of Somalia still cannot return to Somalia in safety due to continued extraordinary and temporary conditions. See section 244(b)(1)(C) of the Act, 8 U.S.C. 1254a(b)(1)(C).

• It is not contrary to the national interest of the United States to permit aliens who meet the eligibility requirements of TPS to remain in the United States temporarily. See section 244(b)(1)(C) of the Act, 8 U.S.C. 1254a(b)(1)(C).

• The designation of Somalia for TPS should be extended for an additional 18-month period. See section 244(b)(3)(C) of the Act, 8 U.S.C. 1254a(b)(3)(C).

• There are approximately 300 nationals of Somalia (or aliens having no nationality who last habitually resided in Somalia) who are eligible for TPS under this extended designation.

Notice of Extension of the TPS Designation of Somalia

By the authority vested in me as Secretary of Homeland Security under section 244 of the Act, 8 U.S.C. 1254a, I have determined after consultation with the appropriate government agencies that the conditions that prompted redesignation of Somalia for temporary protected status (TPS) on September 4, 2001, continue to be met. See section 244(b)(3)(A) and (C) of the Act, 8 U.S.C. 1254a(b)(3)(A) and (C). On the basis of this determination, I am extending the TPS designation of Somalia for 18 months from March 18, 2011 through September 17, 2012.

Janet Napolitano,
Secretary.

Required Application Forms and Application Fees To Register or Re-register for TPS

To register or re-register for TPS, an applicant must submit:

1. Form I-821, Application for Temporary Protected Status,

• You need to pay the Form I-821 application fee only if you are filing an application for late initial registration;

• You do not need to pay the Form I-821 fee for a re-registration; and

2. Form I-765, Application for Employment Authorization.

• If you are filing for re-registration, you must pay the Form I-765 application fee if you want an employment authorization document (EAD).

• If you are filing for late initial registration and want an EAD, you must pay the Form I-765 fee only if you are age 14 through 65. No EAD fee is required if you are under the age of 14 or over the age of 65 and filing for late initial TPS registration.

• You do not pay the Form I-765 fee if you are not requesting an EAD.

You must submit both completed application forms together. You may apply for application and/or biometrics fee waivers if you are unable to pay and you can provide proof through satisfactory supporting documentation. For more information on the application forms and application fees for TPS, please visit the USCIS Web site at http://www.uscis.gov.

Biometric Services Fee

Biometrics (such as fingerprints) are required for all applicants 14 years of age or older. Those applicants must submit a biometric services fee. You may apply for application and/or biometrics fee waivers if you are unable to pay and you can provide proof through satisfactory supporting documentation. For more information on the biometric services fee, please visit the USCIS Web site at http://www.uscis.gov.

Mailing Information

Mail your application for TPS to the proper address in Table 1:

Table 1—Mailing Addresses
If . . . | Mail to . . .
You are applying for re-registration through US Postal Service | USCIS, Attn: TPS Somalia, P.O. Box 8677, Chicago, IL 60680-8677.
You are applying for the first time as a late initial registrant through US Postal Service | USCIS, Attn: TPS Somalia, P.O. Box 8677, Chicago, IL 60680-8677.
You are using a Non-US Postal Service delivery service for both re-registration and first time late initial registration | USCIS, Attn: TPS Somalia, 131 S. Dearborn—3rd Floor, Chicago, IL 60603-5517.
You were granted TPS by an Immigration Judge (IJ) or the Board of Immigration Appeals (BIA), and you wish to request an EAD or are re-registering for the first time | USCIS, Attn: TPS Somalia, P.O. Box 7332, Chicago, IL 60680-7332.

E-Filing

If you are re-registering for TPS during the re-registration period and you do not need to submit any supporting documents or evidence, you are eligible to file your applications electronically. For more information on e-filing, please visit the USCIS E-Filing Reference Guide at the USCIS Web site at http://www.uscis.gov.

Employment Authorization Document (EAD)

May I request an interim EAD at my local USCIS office?

No. USCIS will not issue interim EADs to TPS applicants and re-registrants at local offices.

Will my current EAD that is set to expire on March 17, 2011, be automatically extended for 6 months?

No. This notice does not automatically extend previously issued EADs. DHS has announced the extension of the TPS designation of Somalia and established the re-registration period at an early date to allow sufficient time for USCIS to process EAD requests prior to the March 17, 2011 expiration date. You must apply during the 60-day re-registration period. Failure to apply during the re-registration period without good cause may result in a withdrawal of your TPS benefits. DHS strongly encourages you to apply as early as possible within the re-registration period.

What documents may a qualified individual show to his or her employer as proof of employment authorization and identity when completing Form I-9?

After March 17, 2011, a TPS beneficiary who chooses to present an EAD as a List A document may present his or her new EAD (Form I-766) with a new expiration date of September 17, 2012, to his or her employer as proof of employment authorization and identity. The EAD will bear the notation “A-12” or “C-19” on the face of the card in the middle under “Category.” After March 17, 2011, employers may not accept EADs that no longer have a valid date.

Employers may not request proof of Somali citizenship. Employers should not ask for additional Form I-9 documentation if presented with a new valid EAD pursuant to this Federal Register notice, and the EAD reasonably appears on its face to be genuine and to relate to the employee. Employees also may present any other legally acceptable document or combination of documents listed on the Form I-9 as proof of identity and employment eligibility.

Note to Employers

Employers are reminded that the laws requiring employment eligibility verification and prohibiting unfair immigration-related employment practices remain in full force. This Notice does not supersede or in any way limit applicable employment verification rules and policy guidance, including those rules setting forth re-verification requirements. For questions, employers may call the USCIS Customer Assistance Office at 1-800-357-2099. Employers may also call the U.S. Department of Justice Office of Special Counsel for Immigration Related Unfair Employment Practices (OSC) Employer Hotline at 1-800-255-8155.

Note to Employees

Employees or applicants may call the OSC Employee Hotline at 1-800-255-7688 for information regarding the automatic extension. Additional information is available on the OSC Web site at http://www.justice.gov/crt/osc/.

[FR Doc. 2010-27613 Filed 11-1-10; 8:45 am]

BILLING CODE 9111-97-P